DEPARTMENT OF AGRICULTURE

Food and Nutrition Service

Nutrition Program for the Elderly; Initial Level of Assistance From October 1, 1999 to September 30, 2000

AGENCY: Food and Nutrition Service, USDA.

ACTION: Notice.

SUMMARY: This notice announces the initial level of per-meal assistance for the Nutrition Program for the Elderly (NPE) for Fiscal Year 2000. The Fiscal Year 2000 initial level of assistance is set at $.5404 for each eligible meal in accordance with section 311(a)(4) of the Older Americans Act of 1965, as amended by section 310 of the Older Americans Act Amendments of 1992 and preempted by the Agriculture, Rural Development, Food and Drug Administration, and Related Agencies Appropriations Act, 1996.

EFFECTIVE DATE: October 1, 1999.

FOR FURTHER INFORMATION CONTACT: Suzanne Rigby, Chief, Schools and Institutions Branch, Food Distribution Division, Food an Nutrition Service, U.S. Department of Agriculture, 3101 Park Center Drive, Alexandria, Virginia 22302-1594 or telephone (703) 305-2644.

SUPPLEMENTARY INFORMATION:

Executive Order 12372

This program is listed in the Catalog of Federal Domestic Assistance under Nos. 10.550 and 10.570 and is subject to the provisions of Executive Order 12372, which requires intergovernmental consultation with State and local officials (7 CFR Part 3015, Subpart V, and final rule-related notices published at 48 FR 29114, June 24, 1983 and 49 FR 22676, May 31, 1984.)

Paperwork Reduction Act of 1995

This notice imposes no new reporting or recordkeeping provisions that are subject to Office of Management and Budget review in accordance with the Paperwork Reduction Act of 1995 (44 U.S.C. 3507).

Regulatory Flexibility Act

This action has been reviewed with regards to the requirements of the Regulatory Flexibility Act of 1980 (5 U.S.C. 601-612). The Administrator of the Food and Nutrition Service (FNS) has certified that this action will not have a significant economic impact and will not affect a substantial number of small entities. The procedures in this notice would primarily affect FNS regional offices, and the State Agencies on aging and local meal providers. While some of these entities constitute small entities, a substantial number will not be affected. Furthermore, any economic impact will not be significant.

Legislative Background

Section 310 of Public Law (Pub. L.) 102-375, the Older Americans Act Amendments of 1992, amended section 311(a)(4) of the Older Americans Act of 1965, 42 U.S.C. 3030a(a)(4), to require the Secretary of Agriculture to maintain an annually programmed level of assistance equal to the greater of: (1) The current appropriation divided by the number of meals served in the preceding fiscal year; or (2) 61 cents per meal adjusted annually beginning with Fiscal Year 1993 to reflect changes in the Consumer Price Index. Section 311(c)(2) of the Older Americans Act (42 U.S.C. 3030a(c)(2)) was amended to provide that the final reimbursement claims must be adjusted so as to utilize the entire program appropriation for the fiscal year for per-meal support. However, the Agriculture, Rural Development, Food and Drug Administration, and Related Agencies Appropriations Act of 1996 (Pub. L. 104-37) imposed, for Fiscal Year 1996 and succeeding years, the same NPE rate management requirements as applied to Fiscal Year 1994. That is, Title IV, Domestic Food Programs, of the Appropriations Act provides that “* * * hereafter notwithstanding any other provision of law, for meals provided pursuant to the Older Americans Act of 1965, a maximum rate of reimbursement to States will be established by the Secretary, subject to reduction if obligations would exceed the amount of available funds, with any unobligated funds to remain available only for obligation in the fiscal year beginning October 1, 1996.”

Notwithstanding the initial rates established by the Older Americans Act, the Department is required to comply with the spending clause of the U.S. Constitution and 31 U.S.C. 1341(a)(1)(A) (known as the Antideficiency Act), which prohibit the obligation or expenditure of funds in excess of the available appropriation. Thus the Department is required to establish (and if necessary, adjust) rates in such a manner as to not exceed the program appropriation.

Fiscal Year 1999 Level of Assistance

Based on its projection of the number of meals to be claimed during the fiscal year, and in light of constitutional and statutory prohibitions on obligating or spending funds in excess of the available appropriation, the Department announced an initial per-meal reimbursement rate of $.5539 for Fiscal Year 1999, the highest rate which it believed could be sustained throughout the fiscal year. This initial level of per-meal assistance was announced in the March 3, 1999 Federal Register (64 FR 10269).

The Department's meal service projection for Fiscal Year 1999 assumed a slightly higher rate of growth than occurred in the preceding fiscal year. This initial per-meal support level of $.5539 was sustained throughout Fiscal Year 1999, and thus no adjustment was necessary to keep expenditures within the limit of the $140 million NPE appropriation established by Pub. L. 104-180, nor were any funds remaining at the end of Fiscal Year 1999.

Fiscal Year 2000 Initial Level of Assistance

It is the Department's goal to establish the highest rate that can be sustained throughout the fiscal year so as to maximize the flow of program funds to States during the fiscal year. However, the Department wants also to minimize the possibility of a rate reduction and the hardship it causes to program operators. In order to guard against the need for a reduction, the Department, once again, has projected a slightly higher rate of growth in meal service than occurred in the preceding fiscal year. Based on its projections, the Department announces an initial per-meal support level of $.5404, which will not be increased, and which will be decreased only if necessary to keep expenditures within the limit of the $140 million NPE Fiscal Year 2000 appropriation established by Pub. L. 106-78. Any of these funds not paid out for Fiscal Year 2000 reimbursement will, in accordance with Pub. L. 105-277, remain available through Fiscal Year 2000. In the unlikely event that the rate needs to decreased, States will be notified directly.

Dated: January 13, 2000.
Samuel Chambers,
Administrator, Food and Nutrition Service.

[FR Doc. 00-3830 Filed 2-16-00; 8:45 am]

BILLING CODE 3410-30-M